DEPARTMENT OF DEFENSE

Department of the Army

Privacy Act of 1974; System of Records

AGENCY: Department of the Army, DoD.

ACTION: Notice to alter a system of records.

SUMMARY: The Department of the Army is altering a system of records notice in its existing inventory of record systems subject to the Privacy Act of 1974, (5 U.S.C. 552a), as amended.

DATES: This proposed action will be effective without further notice on (insert date thirty days from date published in the FR) unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on May 7, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 8, 2002.
Patricia L. Toppings,
Alternate OSD Federal Register Liaison Officer, Department of Defense.

A0385-10/40 ASO

System name:

Army Safety Management Information System (ASMIS) (February 22, 1993, 58 FR 10002).

Changes:

* * * * *

System location:

Add a second paragraph ‘U.S. Army Corps of Engineers: Chief, Safety and Occupational Health Office, Headquarters, U.S. Army Corps of Engineers, 441 G Street NW, Washington, DC 20314-1000, and all U.S. Army Corps of Engineers (USACE) Safety and Occupational Health Offices. Official mailing addresses are published as an Appendix to the Army's compilation of systems of records notices.’

Categories of individuals covered by the system:

Delete entry and replace with ‘Individuals (includes contractors, volunteer personnel, and members of the public) involved in accidents incident to Army and U.S. Army Corps of Engineers operations and recreational facilities.’

Categories of records in the system:

Delete entry and replace with ‘Records include name of injured individual, Social Security Number, job title, date of injury, location of accident, activity at time of injury, type of injury, board findings, recommendations, witness statements, wreckage distribution diagrams, maintenance and material data, and other personal and accident related and environmental information.’

Authority for maintenance of the system:

Delete entry and replace with ‘10 U.S.C. 3013, Secretary of the Army; 5 U.S.C. 7902, Safety Programs; Public Law 91-596, Occupational Safety and Health Act of 1970; Army Regulations 385-10, Army Safety Program; Army Regulation 385-40, Accident Reporting and Records; and E.O. 9397 (SSN).’

Purpose(s):

Delete entry and replace with ‘Information will be used to monitor and facilitate the Army's and the USACE Safety and Occupational Health Offices' safety programs; to analyze accident experience and exposure information; and to support the Army's accident prevention efforts.’

Routine uses of records maintained in the system, including categories of users and the purposes of such uses: Delete paragraphs two and three.

Storage:

Delete entry and replace with ‘Magnetic tapes, electronic storage media and printouts.’

Retrievability:

Delete entry and replace with ‘Information is retrieved by individual’s name and Social Security Number.’

Safeguards:

Delete entry and replace with ‘Paper records are maintained in locked file cabinets. Information is accessible only by authorized personnel with appropriate clearance/access in the performance of their duties. Remote terminal accessible only by authorized personnel. Specific to USACE: Computer stored records are secured behind security doors, accessible only by authorized personnel provided password access.’

Retention and disposal:

Delete entry and replace with ‘Accident and incident case records and aviation accident and incident case records maintain for 5 years then destroy, except for: U.S. Army Safety Center and U.S. Army Corps of Engineers maintain for 30 years in current file area then destroy; Office of Corps of Engineers records created prior to January 1, 1982 maintain for 30 years then destroy. Environmental restoration reports are maintained for 50 years then destroyed (5 years in current file area then transferred to records holding area). Reports of artillery mis-firings or accidents and harmful chemical, biological and radiological exposures accumulated in combat or combat support elements are permanent.’

* * * * *

Record source categories:

Delete entry and replace with ‘Army and USACE records and reports of accident, injury, fire, morbidity, law enforcement, traffic accident investigations, vehicle accident reports, and marine accident/casualty reports, individual sick clips, and military aviation records/reports.’

* * * * *

A0385-10/40 ASO

System name:

Army Safety Management Information System (ASMIS).

System location:

U.S. Army Safety Center, 4905 5th Avenue, Fort Rucker, AL 36362-5363.

U.S. Army Corps of Engineers: Chief, Safety and Occupational Health Office, Headquarters, U.S. Army Corps of Engineers, 441 G Street NW, Washington, DC 20314-1000, and all U.S. Army Corps of Engineers (USACE) Safety and Occupational Health Offices. Official mailing addresses are published as an Appendix to the Army’s compilation of systems of records notices.

Categories of individuals covered by the system:

Individuals (includes contractors, volunteer personnel, and members of the public) involved in accidents incident to Army and U.S. Army Corps of Engineers operations and recreational facilities.

Categories of records in the system:

Records include name of injured individual, Social Security Number, job title, date of injury, location of accident, activity at time of injury, type of injury, board findings, recommendations, witness statements, wreckage distribution diagrams, maintenance and material data, and other personal and accident related and environmental information.

Authority for maintenance of the system:

10 U.S.C. 3013, Secretary of the Army; 5 U.S.C. 7902, Safety Programs; Public Law 91-596, Occupational Safety and Health Act of 1970; Army Regulations 385-10, Army Safety Program; Army Regulation 385-40, Accident Reporting and Records; and E.O. 9397 (SSN).

Purpose(s):

Information will be used to monitor and facilitate the Army's and the USACE Safety and Occupational Health Offices' safety programs; to analyze accident experience and exposure information; and to support the Army's accident prevention efforts.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Labor, the Federal Aviation Agency, the National Transportation Safety Board, and to Federal, State, and local agencies, and applicable civilian organizations, such as the National Safety Council, for use in a combined effort of accident prevention.

In some cases, data must also be disclosed to an employee's representative under the provisions of 29 CFR 1960.29.

The DoD ‘Blanket Routine Uses’ set forth at the beginning of the Army's compilation of systems of records notices also apply to this system.

Policies and practices for storing, retrieving, accessing, retaining, and disposing of records in the system:

Storage:

Magnetic tapes, electronic storage media and printouts.

Retrievability:

Information is retrieved by individual's name and Social Security Number.

Safeguards:

Paper records are maintained in locked file cabinets. Information is accessible only by authorized personnel with appropriate clearance/access in the performance of their duties. Remote terminal accessible only by authorized personnel. Specific to USACE: Computer stored records are secured behind security doors, accessible only by authorized personnel provided password access.

Retention and disposal:

Accident and incident case records and aviation accident and incident case records maintain for 5 years then destroy, except for: U.S. Army Safety Center and U.S. Army Corps of Engineers maintain for 30 years in current file area then destroy; Office of Corps of Engineers records created prior to January 1, 1982 maintain for 30 years then destroy. Environmental restoration reports are maintained for 50 years then destroyed (5 years in current file area then transferred to records holding area). Reports of artillery mis-firings or accidents and harmful chemical, biological and radiological exposures accumulated in combat or combat support elements are permanent.

System manager(s) and address:

Commander, U.S. Army Safety Center, 4905 5th Avenue, Fort Rucker, AL 36362-5363.

For USACE: Chief, Safety and Occupational Health Office, Headquarters, U.S. Army Corps of Engineers, 441 G Street, NW, Washington, DC 20314-1000.

Notification procedure:

Individuals seeking to determine whether information about themselves is contained in this system should address written inquiries to the Commander, U.S. Army Safety Center, 4905 5th Avenue, Fort Rucker, AL 36362-5363.

For USACE: Chief, Safety and Occupational Health Office, Headquarters, U.S. Army Corps of Engineers, 441 G Street, NW, Washington, DC 20314-1000.

Individual must furnish his/her full name, Social Security Number, current address and telephone number, when and where the accident occurred, type of equipment involved in the accident, and signature.

Record access procedures:

Individuals seeking access to information about themselves contained in this system should address written inquiries to the Commander, U.S. Army Safety Center, 4905 5th Avenue, Fort Rucker, AL 36362-5363.

For USACE: Chief, Safety and Occupational Health Office, Headquarters, U.S. Army Corps of Engineers, 441 G Street, NW, Washington, DC 20314-1000.

Individual must furnish his/her full name, Social Security Number, current address and telephone number, when and where the accident occurred, type of equipment involved in the accident, and signature.

Contesting record procedures:

The Army's rules for accessing records, and for contesting contents and appealing initial agency determinations are contained in Army Regulation 340-21; 32 CFR part 505; or may be obtained from the system manager.

Record source categories:

Army and USACE records and reports of accident, injury, fire, morbidity, law enforcement, traffic accident investigations, vehicle accident reports, and marine accident/casualty reports, individual sick clips, and military aviation records/reports.

Exemptions claimed for the system:

None.

[FR Doc. 02-12056 Filed 5-14-02; 8:45 am]

BILLING CODE 5001-08-P